OFFICE OF THE UNITED STATES TRADE REPRESENTATIVE

Determination Regarding Waiver of Discriminatory Purchasing Requirements With Respect to Goods and Services Covered by Chapter Nine of the United States-Panama Trade Promotion Agreement

AGENCY: Office of the United States Trade Representative.

ACTION: Determination Regarding Waiver of Discriminatory Purchasing Requirements under Trade Agreements Act of 1979.

DATES: Effective Date: October 31, 2012.

FOR FURTHER INFORMATION CONTACT: Jean Heilman Grier, Senior Procurement Negotiator, Office of the United States Trade Representative, (202) 395-9476, or Daniel Stirk, Associate General Counsel, Office of the United States Trade Representative, (202) 395-9617.

SUPPLEMENTARY INFORMATION: On June 28, 2007, the United States and Panama entered into the United States-Panama Trade Promotion Agreement (“Panama TPA”). Chapter Nine of the Panama TPA sets forth certain obligations with respect to government procurement of goods and services, as specified in Annex 9.1 of the Panama TPA. On October 21, 2011, the President signed into law the United States-Panama Trade Promotion Agreement Implementation Act (“the Panama TPA Act”) (Pub. L. 112-43, 125 Stat. 497) (19 U.S.C. 3805 note). In section 101(a) of the Panama TPA Act, the Congress approved the Panama TPA. The Panama TPA will enter into force on October 31, 2012.

Section 1-201 of Executive Order 12260 of December 31, 1980 (46 FR 1653) delegates the functions of the President under Sections 301 and 302 of the Trade Agreements Act of 1979 (“the Trade Agreements Act”) (19 U.S.C. 2511, 2512) to the United States Trade Representative.

Determination: In conformity with sections 301 and 302 of the Trade Agreements Act and Executive Order 12260, and in order to carry out U.S. obligations under Chapter Nine of the Panama TPA, I hereby determine that:

1. Panama is a country, other than a major industrialized country, which, pursuant to the Panama TPA, will provide appropriate reciprocal competitive government procurement opportunities to United States products and suppliers of such products. In accordance with Section 301(b)(3) of the Trade Agreements Act, Panama is so designated for purposes of Section 301(a) of the Trade Agreements Act.

2. With respect to eligible products of Panama (i.e., goods and services covered by the Schedule of the United States in Annex 9.1 of the Panama TPA) and suppliers of such products, the application of any law, regulation, procedure, or practice regarding government procurement that would, if applied to such products and suppliers, result in treatment less favorable than accorded—

(A) To United States products and suppliers of such products; or

(B) To eligible products of another foreign country or instrumentality which is a party to the Agreement on Government Procurement referred to in section 101(d)(17) of the Uruguay Round Agreements Act (19 U.S.C. 3511(d)(17)) and suppliers of such products, shall be waived.

With respect to Panama, this waiver shall be applied by all entities listed in the Schedule of the United States in Annex 9.1 of the Panama TPA.

3. The designation in paragraph 1 and the waiver in paragraph 2 are subject to modification or withdrawal by the United States Trade Representative.

Ronald Kirk,
United States Trade Representative.

[FR Doc. 2012-26538 Filed 10-26-12; 8:45 am]

BILLING CODE 3290-F3-P